DEPARTMENT OF TRANSPORTATION

National Highway Traffic Safety Administration

[Docket No. NHTSA-2010-0047; Notice 2]

Tireco, Inc., Grant of Petition for Decision of Inconsequential Noncompliance

AGENCY: National Highway Traffic Safety Administration, DOT.

ACTION: Grant of Petition for Decision of Inconsequential Noncompliance.

SUMMARY: Tireco, Inc., (Tireco), has determined that approximately 6,170 of its “GEO-Trac” brand P235/75R15 passenger car tires, manufactured between June 12, 2009 and August 20, 2009 by the fabricating manufacturer, the Shandong Linglong Tyre Co., Ltd., and imported into the United States by Tireco, do not comply with paragraph S5.5(c) of Federal Motor Vehicle Safety Standard (FMVSS) No. 139, New pneumatic radial tires for light vehicles. Tireco has filed an appropriate report pursuant to 49 CFR part 573, Defect and Noncompliance Responsibility and Reports (dated August 31, 2009).

Pursuant to 49 U.S.C. 30118(d) and 30120(h) and the rule implementing those provisions at 49 CFR part 556, Tireco has petitioned for an exemption from the notification and remedy requirements of 49 U.S.C. chapter 301 on the basis that this noncompliance is inconsequential to motor vehicle safety.

Notice of receipt of Tireco's petition was published, with a 30-day public comment period, on April 21, 2010, in the Federal Register (75 FR 20879). No comments were received. To view the petition and all supporting documents log onto the Federal Docket Management System Web site at: http://www.regulations.gov/. Then follow the online search instructions to locate docket number “NHTSA-2010-0047.”

For further information on this decision, contact Mr. George Gillespie, Office of Vehicle Safety Compliance, the National Highway Traffic Safety Administration (NHTSA), telephone (202) 366-5299, facsimile (202) 366-7002.

Affected are approximately 6,170 tires imported into the United States by Tireco who identified the tires as “Geo-Trac” brand P235/75R15 passenger car tires. In consultation with the fabricating manufacturer, the Shandong Linglong Tyre Co., Ltd., Tireco has determined that all of the noncompliant tires were manufactured between June 12, 2009 (Serial Week 24) and August 20, 2009 (Serial Week 34). A total of 6,170 these noncompliant tires have been recovered from its distributors and dealers and are currently in Tireco's possession for relabeling. The remaining tires (approximately 3,370) are still in the hands of Tireco's customers.

Tireco explains that the noncompliance is that the markings on the non-compliant tires specifying the maximum inflation pressure in kPa and in psi are reversed from the order required by paragraph S5.5.5(c). The Company said that the maximum inflation pressure should have been marked as “300 kPa (44 psi)” but were “inadvertently” marked on both sidewalls with a maximum inflation pressure of “44 kPa (300 psi).” Tireco reported that this noncompliance was brought to their attention on August 19, 2009 by one of the company's distributor customers.

Tireco argues that no vehicle operator would ever inflate the tires to the incorrect pressures that appear on the sidewalls of the subject tires, and specifically stated that “it would be virtually impossible to do so.” Tireco supports this conclusion with the following statements:

• With respect to the erroneous psi marking, no commercially available air compressor used in tire retail stores, at gas stations, or for home use has the capacity to inflate tires to 300 psi, and consumers would immediately be aware from their past experience that a pressure of 300 psi could not be correct.

• With respect to the erroneous kPa marking, it [is] extremely unlikely that a consumer would attempt to inflate the tires to 44 kPa, since (1) Drivers in the United States almost always utilize the psi parameter rather than kPa value when they inflate their tires; and (2) any driver who used the kPa parameter would know that the 44 kPa value was not correct, since all passenger car tires have a maximum inflation pressure of at least 240 kPa. Moreover, even if a consumer were to attempt to inflate the tires to 44 kPa (which is equivalent to approximately 7 psi), he or she would immediately be aware that the tires were drastically underinflated, and would not be in a drivable state.

Tireco concludes that the subject non-compliance “cannot result in the tires being overloaded, or any other adverse safety consequence to the tires or to the vehicles on which they are mounted.” Additionally, Tireco cites three cases which it believes support its conclusion that NHTSA has previously granted tire companies inconsequentiality exemptions relating to errors in the marking of maximum inflation pressure. (See Michelin North America, Inc., 70 FR 10161 (March 2, 2005); Kumho Tire Co., Inc., 71 FR 6129 (February 6, 2006); and Michelin North America, Inc., 74 FR 10805 (March 12, 2009).

Furthermore, Tireco points out three other substantive factors that support its petition:

• The subject tires meet or exceed all of the substantive performance requirements of FMVSS No. 139.

• There have been no complaints regarding this issue from vehicle owners (the incorrect markings were brought to Tireco's attention by one of its distributors).

• The manufacturer of these tires, Shandong Linglong Tyre Co., Ltd., has corrected the molds at its factory, so that this noncompliance will not be repeated in current or future production.

Supported by all of the above stated reasons, Tireco believes that the described noncompliance of its tires to meet the requirements of FMVSS No. 139 is inconsequential to motor vehicle safety, and that its petition, to exempt it from providing recall notification of noncompliance as required by 49 U.S.C. 30118 and remedying the recall noncompliance as required by 49 U.S.C. 30120, should be granted.

NHTSA Decision: The agency agrees with Tireco that the noncompliance is inconsequential to motor vehicle safety. The agency believes that the true measure of inconsequentiality to motor vehicle safety in this case is that there is no effect of the noncompliances on the operational safety of vehicles on which these tires are mounted. In the agency's judgment, the incorrect labeling of the tire inflation information will not have any consequential effect on motor vehicle safety because it is extremely unlikely that the consumer will inflate the tires to an incorrect pressure.

The safety of people working in the tire retread, repair, and recycling industries was also to be considered. As with consumers, it is extremely unlikely that this noncompliance will cause anyone working in those businesses to incorrectly inflate these tires in a manner that will cause a measureable effect on motor vehicle safety.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the 3,370 ¹ passenger car replacement tires that Tireco no longer controlled at the time that it determined that a noncompliance existed.

¹ Tireco's petition, which was filed under 49 CFR part 556, requests an agency decision to exempt Tireco as a manufacturer from the notification and recall responsibilities of 49 CFR part 573 for 3, 370 of the affected tires. However, a decision on this petition cannot relieve distributors and dealers of the prohibitions on the sale, offer for sale, or introduction or delivery for introduction into interstate commerce of the noncompliant tires under their control after Tireco notified them that the subject noncompliance existed.

In consideration of the foregoing, NHTSA has decided that Tireco has met its burden of persuasion that the subject FMVSS No. 139 labeling noncompliances are inconsequential to motor vehicle safety. Accordingly, Tireco's petition is granted and the petitioner is exempted from the obligation of providing notification of, and a remedy for, the subject noncompliance under 49 U.S.C. 30118 and 30120.

Authority: (49 U.S.C. 30118, 30120: delegations of authority at CFR 1.50 and 501.8)

Issued on: October 20, 2011.
Claude H. Harris,
Acting Associate Administrator for Enforcement.

[FR Doc. 2011-27651 Filed 10-25-11; 8:45 am]

BILLING CODE 4910-59-P